DEPARTMENT OF HOUSING AND URBAN DEVELOPMENT

[Docket No. FR-5763-N-08]

Implementation of the Privacy Act of 1974, as Amended; Notice of New System of Records—Application Submission and Processing System

AGENCY: Office of the Chief Information Officer, HUD.

ACTION: Notice of New System of Records.

SUMMARY: Pursuant to the Privacy Act of 1974 (U.S.C. 552a (e)(4)), as amended, and Office of Management and Budget (OMB), Circular No. A-130, notice is hereby given that the Department of Housing and Urban Development (HUD), Office of Multifamily Housing (MFH), proposes to establish a new system of records: The MFH Application Submission and Processing System (ASAP). MFH ASAP will be an a comprehensive, automated underwriting system to support the processing and tracking MFH insurance applications from pre-application through final closing. The system provides an improved way of managing data and the electronic processing of the lender applications. Upon full implementation, this new system will replace in its entirety the MFH Development Application Processing system (DAP) and the supporting system of records.

DATES: Effective Date: This action shall be effective without further notice on October 17, 2014 unless comments are received that would result in a contrary determination.

Comments Due Date: October 17, 2014.

ADDRESSES: Interested persons are invited to submit comments regarding this notice to the Rules Docket Clerk, Office of the General Counsel, Department of Housing and Urban Development, 451 Seventh Street SW., Room 10276, Washington, DC 20410-0500. Communication should refer to the above docket number and title. A copy of each communication submitted will be available for public inspection and copying between 8:00 a.m. and 5:00 p.m. weekdays at the above address.

FOR FURTHER INFORMATION CONTACT: Donna Robinson-Staton, Chief Privacy Officer, 451 Seventh Street SW., Washington, DC 20410 (Attention: Capitol View Building, 4th Floor), telephone number: (202) 402-8073. [The above telephone number is not a toll free number.] A telecommunications device for hearing- and speech-impaired persons (TTY) is available by calling the Federal Information Relay Service's toll-free telephone number (800) 877-8339.

SUPPLEMENTARY INFORMATION: This system of records is maintained by HUD's Office of Multifamily Housing, and includes personally identifiable information provided to HUD from which information is retrieved by a name or unique identifier. The system encompasses programs and services in place for the Department's data collection and management practices. Publication of this notice allows HUD to satisfy its reporting requirement and keep an up-to-date accounting of its system of records publications. The new system proposal will incorporate Federal privacy requirements and HUD policy requirements. The Privacy Act provides safeguards to protect individuals against invasions of personal privacy by requiring Federal agencies to protect records contained in an agency system of records from unauthorized disclosure, by ensuring that information is current for its intended use, and by providing adequate safeguards to prevent misuse of such information. Additionally, this notice demonstrates the Department's focus on industry best practices in protecting the personal privacy of the individuals covered by this system notification. This notice states the name and location of the system of records, the authority for and manner of its operations, the categories of individuals that it covers, the type of records that it contains, the sources of the information for those records, the routine uses made of the records, and the types of exemptions in place for the records. In addition, the notice includes the business addresses of the HUD officials who will inform interested persons of the procedures whereby they may gain access to and/or request amendments to records pertaining to them.

This publication does meet the threshold requirements for filing a report to the Office of Management and Budget (OMB), the Senate Committee on Homeland Security and Governmental Affairs, and the House Committee on Government Reform as instructed by Paragraph 4c of Appendix 1 to OMB Circular No. A-130, “Federal Agencies Responsibilities for Maintaining Records About Individuals,” July 25, 1994 (59 FR 37914).

Authority: 5 U.S.C. 552a; 88 Stat. 1896; 42 U.S.C. 3535(d).

Dated: September 5, 2014.
Rafael C. Diaz,
Chief Information Officer.

SYSTEM OF RECORDS NO.: HSNG.MF/HTD.01

SYSTEM NAME:

Multifamily Housing (MFH) Application Submission and Processing (ASAP) System—P280.

SYSTEM LOCATION:

U.S. Department of Housing and Urban Development, 451 Seventh Street SW., Washington, DC 20410; Hewlett-Packard Enterprise Services, Building 6000, 2020 Union Carbide Drive, South Charleston, WV 25303. Backup, recovery, and archived digital media is stored in secure facilities located with Iron Mountain, 1545 Hansford St. Charleston, WV 25311. HUD also operates Field and Regional Offices ¹ where Privacy Act records for MFH ASAP are maintained and/or accessed. Multifamily Accelerated Processing (MAP) and Healthcare approved Lenders nationwide will also have access to the system but will have limited access to only their individual submission packages.

¹ http://portal.hud.gov/hudportal/HUD?src=/localoffices.

CATEGORIES OF INDIVIDUALS COVERED BY THE SYSTEM: Mortgagees (HUD approved MAP and Healthcare Lenders).

CATEGORIES OF RECORDS IN THE SYSTEM:

Project Files/records in the system for every Multifamily and Healthcare project will contain the following information: Mortgagees name and Mortgagors, Employee identification Number/Tax Identification Number/Social Security Number, Project name, Project Sponsor's Name, Project Number, Account Number, and Unit Address. The project level data mentioned above is derived from the various HUD required forms. Note: Certain records contained in this system, which pertain to individuals, contain principally proprietary information concerning sole proprietorships. Some of the records in the system which pertain to individuals may reflect personal information; however, only the records reflecting personal information are subject to the Privacy Act.

AUTHORITY FOR MAINTENANCE OF THE SYSTEM:

Sec. 113 of the Budget and Accounting Act of 1950 31 U.S.C. 66a. (Pub. L. 81-784). National Housing Act as amended (12 U.S.C. 1702 et seq.). HUD is authorized to collect the Social Security Number (SSN) by Section 165(a) of the Housing and Community Development Act of 1987, Public Law 100-242 and by 42 U.S.C. 3543.

PURPOSE(S):

The MFH ASAP system is an automated underwriting system that supports processing, tracking and underwriting activities for MFH and its Office of Healthcare Program (OHP) applications. The system will be designed to support underwriting of applications submitted to HUD by approved lenders for FHA insurance related to Multifamily Housing or Healthcare projects. It will help to increase the sharing of information throughout MFH and OHP making the process more efficient, accurate, and transparent, thereby improving the partner relationships with both internal and external parties. Currently, the applications process relies heavily on manual processing and only meets the needs of the pipeline data tracking at a minimum for MFH. The system is expected to provide an end-to-end solution from concept phase to final closing for MFH, and will align with the OHP process improvement for both the Office of Residential Care Facilities (ORCF) (Section 232 program) and the Office of Hospital Facilities (OHF) (Section 242 program) that provide access to quality healthcare and residential facilities.

This MFH ASAP project initiative will provide an improved way of managing the pipeline data and electronic processing of the lender applications benefiting both MFH and OHP. This fully integrated solution allows electronic submission of applications using a web portal, enhancement to reporting capabilities, and document management solutions. Upon full implementation, this new system will replace in its entirety the MFH Development Application Processing system (DAP) and it supporting system of records notification.

ROUTINE USES OF RECORDS MAINTAINED IN THE SYSTEM, INCLUDING CATEGORIES OF USERS AND THE PURPOSES OF SUCH USES:

In addition to those disclosures generally permitted under 5 U.S.C. 552a(b) of the Privacy Act, other routine uses are as follows:

(a) To the U.S. Treasury—for disbursements and adjustments.

(b) To the Internal Revenue Service—for reporting payments for mortgage interest, for reporting of discharge indebtedness and real estate taxes.

(c) To HUD Business Partners (Public Housing Authorities and Community Development Corporations serving as Performance-Based Contract Administrators (PBCAs))—to manage their portfolio.

(d) To contractors, grantees, experts, consultants, and the agents of thereof, and others performing and/or working on a contract, service, grant, cooperative agreement with HUD, when necessary to accomplish an agency function related to its system of records, limited to only those data elements considered relevant to accomplishing an agency function. Individuals providing information under this routine use are subject to the same Privacy Act requirements and limitations on disclosure as are applicable to HUD officers and employees.

(e) To contractors, experts, consultants with whom HUD has a contract, service agreement or other assignment of the Department, when necessary to utilize relevant data for purposes of testing new technology and systems designed to enhance program operations and performance with the understanding that data disclosure restrictions apply under the Freedom of Information Act and Privacy Act.

(f) To appropriate agencies, entities, and persons when: (a) HUD suspects or has confirmed that the security or confidentiality of information in a system of records has been compromised; (b) HUD has determined that as a result of the suspected or confirmed compromise there is a risk of harm to economic or property interests, identity theft or fraud, or harm to the security or integrity of systems or programs (whether maintained by HUD or another agency or entity) that rely upon the compromised information; and (c) the disclosure made to such agencies, entities, and persons is reasonably necessary to assist in connection with HUD's efforts to respond to the suspected or confirmed compromise and prevent, minimize, or remedy such harm for purposes of facilitating responses and remediation efforts in the event of a data breach.

(g) To appropriate agencies, entities, and persons to the extent such disclosures are compatible with the purpose for which the records in this system are collected, as set forth by Appendix I—HUD's Library of Routine Uses published in the Federal Register on July 17, 2012 at 77 FR 41996.

POLICIES AND PRACTICES FOR STORING, RETRIEVING, ACCESSING, RETAINING, AND DISPOSING OF RECORDS IN THE SYSTEM:

STORAGE:

For electronic records, all data is stored at a secured data center on the production MFH ASAP database servers. Backup, recovery and archived digital media is stored in secure facilities located with Iron Mountain. All printed/hard copies that currently exist for projects will need to be created and stored in each HUD office in locked file cabinets when not in use. The printed/hard copies will later be shipped to Tulsa, OK, upon completing the final endorsement phase. Note: Upon full implementation of new MFH ASAP, paper copies will no longer exist and require storage. The existing paper copies will have be uploaded into the new system format for electronic storage.

RETRIEVABILITY:

Electronic and Manual records can only be retrieved via the project number or the project status. Note: Upon full implementation of MFH ASAP, hard copy records will no longer exist and/or require retrieval methods. The existing paper copies will have be uploaded into the new system format for electronic retrieval.

SAFEGUARDS:

Strict access controls are governed for electronic records by the use of a user ID and password that require authentication before access is granted to MFH ASAP. All printed/hard copies that currently exist for projects will need to be created and stored in each HUD office in locked file cabinets when not in use, which access is limited to those personnel who service the records. Note: Upon full implementation of MFH ASAP, hard copies will no longer exist for the new system. Paper records that existed under the prior manual process will have been uploaded into the new system format for electronic safeguarding. Records that existing under the prior manual process will have be shipped to the designated storage and archive facility who will safeguard the records in accordance with Departmental safeguarding procedures and policies.

RETENTION AND DISPOSAL:

MFH ASAP retention and disposal procedures are in accordance with approved General Service Administration schedules of retention and disposal included in HUD's Handbook 2228.2, appendix 14, items 21-26. Electronic and hard copy records will be retained between 10 and 40 years depending on financial terms. Afterwards, electronic records are purged or deleted from the system when eligible to be destroyed using one of the methods described by the NIST SP 800-88 “Guideline for media Sanitization” (September 2006). Paper based records when eligible to be destroyed will be destroyed by shredding or burn. Note: Upon full implementation of new MFH ASAP system, paper copy records will no longer be produced. The paper copies that existed under the prior manual system process will have be uploaded into the new system format, and official documentation will have been archived to the designated facility and destroyed when eligible to be destroyed.

SYSTEM MANAGER(S) AND ADDRESS:

Daniel Sullivan, Deputy Director, Multifamily Housing Development, Department of Housing and Urban Development, 451 Seventh Street SW., Room 6148, Washington, DC 20410.

NOTIFICATION AND RECORD ACCESS PROCEDURES:

For Information, assistance, or inquiries about the existence of records contact the Chief Privacy Officer, Department of Housing and Urban Development, 451 Seventh Street SW., Room 4156, Washington, DC 20410. Verification of your identity must include original signature and be notarized. Written request must include the full name, Social Security Number, date of birth, current address, and telephone number of the individual making the request. The Department's rules for providing access to records to the individual concerned appear in 24 CFR Part 16.

CONTESTING RECORD PROCEDURES:

The Department's rules for contesting contents of records and appealing initial denials appear in 24 CFR Part 16. Procedures for the amendment or correction of records, and for applicants want to appeal initial agency determination appear in 24 CFR Part 16. If additional information is needed, contact:

(i) In relation to contesting contents of records, the Privacy Act Officer at HUD, 451 Seventh Street SW., Room 4178 (Attention: Capitol View Building, 4th Floor), DC 20410;

(ii) In relation to appeals of initial denials, HUD, Departmental Privacy Appeals Officer, Office of General Counsel, 451 Seventh Street SW., Washington, DC 20410.

RECORD SOURCE CATEGORIES:

HUD Employees and contractors who gather and process HUD information related to Multifamily Housing or Healthcare projects; Mortgagees (HUD approved Multifamily MAP or Healthcare Lenders) who submit application package for these projects. Data will also be derived from various HUD required forms. Other data is electronically submitted by HUD sources systems: Integrated Real Estate Management System (iREMS), the Online Property Integrated Information Suite (OPIIS), and Subsidiary Ledger.

SYSTEMS EXEMPTED FROM CERTAIN PROVISIONS OF THE ACT:

For the Privacy Act, records are disclosed pursuant to routine use statements supplied under notice. For the Freedom of Information Act, records submitted to HUD by multifamily and healthcare mortgagors and mortgagee (lender), as well as information gathered by agency employees as part of this process are subject to FOIA and is presumptively releasable unless it is clearly exempt and withheld under FOIA Exemption, which protects (1) commercial or financial information (2) obtained from a person that is (3) confidential.

[FR Doc. 2014-22183 Filed 9-16-14; 8:45 am]

BILLING CODE 4210-67-P